DEPARTMENT OF HOMELAND SECURITY

Coast Guard

33 CFR Part 117

[Docket No. USCG-2011-1068]

Drawbridge Operation Regulation; City Waterway Also Known as Thea Foss Waterway, Tacoma, WA

AGENCY: Coast Guard, DHS.

ACTION: Notice of temporary deviation from regulations.

SUMMARY: The Commander, Thirteenth Coast Guard District, has issued a temporary deviation from the regulation governing the operation of the South 11th Street (“Murray Morgan”) Bridge across City Waterway also known as the Thea Foss Waterway, mile 0.6, at Tacoma, WA. The deviation is necessary to perform extensive maintenance and repair work on the bridge, including but not limited to removal and replacement of the roadway surface and the underlying steel stringer substructure as part a major bridge rehabilitation project. This deviation allows the bridge to remain in the closed position during construction activities.This deviation is effective from 8 a.m. on November 14, 2011 through 6 p.m. April 30, 2012.

ADDRESSES: Documents mentioned in this preamble as being available in the docket are part of docket USCG-2011-1068 and are available online by going to http://www.regulations.gov, inserting USCG-2011-1068 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone (206) 220-7282 email randall.d.overton@uscg.mil. If you have questions on viewing the docket, call Renee V. Wright, Program Manager, Docket Operations, telephone (202) 366-9826.

SUPPLEMENTARY INFORMATION: The City of Tacoma has requested to place the South 11th Street “Murray Morgan” Bridge in the closed or down position and to not open the bridge for vessel traffic to facilitate a major rehabilitation project on the bridge. The South 11th Street Bridge crosses City Waterway mile 0.6 at Tacoma, WA. The South 11th Street Bridge is also known as the Murray Morgan Bridge and City Waterway is also known as Thea Foss Waterway. The South 11th Street Bridge is a vertical lift bridge. During this deviation the bridge will be placed in the close or down position. There will be a debris containment system attached to the underside of the bridge for the duration of construction activities. A minimum vertical clearance of 57 feet above mean high water will be provided beneath the bridge and the attached debris containment system, at all time during the deviation period. Vessels which do not require a bridge opening may continue to transit beneath the bridge during this closure period. Under normal operations the bridge operates under 33 CFR 117.1061 which requires a two hour notice for an opening and allows the bridge to not open during morning and afternoon rush hours. This current deviation states the lift span of the 11th Street South Bridge (Murray Morgan Bridge) across City Waterway (Thea Foss Waterway), mile 0.6, need not open from 8 a.m. November 14, 2011 through 6 p.m. April 30, 2012; except as otherwise outlined in this article and through ongoing coordination with waterway users. The bridge will be able to open during this maintenance period for emergent situations provided 12 hours of advance notification of an opening is given. The bridge will be placed in the open position: November 24-27, 2011; December 24, 2011 through January 1, 2012, and either April 14-15, 2012 or April 21-22, 2012, to be coordinated with the local waterway users. The bridge will also be opened during an additional weekend in January, February, and March to be determined in coordination with local waterway users.

In accordance with 33 CFR 117.35(e), the drawbridge must return to its regular operating schedule immediately at the end of the designated time period. This deviation from the operating regulations is authorized under 33 CFR 117.35.

Dated: November 14, 2011.
Randall D. Overton,
Bridge Administrator.

[FR Doc. 2011-30513 Filed 11-25-11; 8:45 am]

BILLING CODE 9110-04-P